DEPARTMENT OF HEALTH AND HUMAN SERVICES

National Institutes of Health

National Center for Complementary & Alternative Medicine; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Complementary & Alternative Medicine Special Emphasis Panel.

Date: March 24, 2000.

Time: 3 PM to 4:30 PM.

Agenda: To review and evaluate grant applications.

Place: 9000 Rockville Pike, Bldg. 31, Room 5B50 Bethesda, MD 20892, (Telephone Conference Call).

Contact Person: Eugene G. Hayunga, Scientific Review Administrator, National Institutes of Health, NCCAM, Building 31, Room 5B50, 9000 Rockville Pike, Bethesda, MD 20892, 301-594-2014, hayungae@od.nih.gov.

Dated: February 25, 2000.
Anna Snouffer,
Acting Director, Office of Federal Advisory Committee Policy.

[FR Doc. 00-5288 Filed 3-3-00; 8:45 am]

BILLING CODE 4140-01-M